DEPARTMENT OF TRANSPORTATION

Research and Special Programs Administration

[Docket No. RSPA-98-4029; Notice 5]

Pipeline Safety: Damage Prevention “Path Forward”

AGENCY: Research and Special Programs Administration (RSPA); Office of Pipeline Safety (OPS).

ACTION: Notice of public meeting.

SUMMARY: This notice is to announce the next public meeting of RSPA's continuing efforts to prevent damage to underground facilities. Last year, RSPA assembled a study team of over 160 industry and government stakeholders to identify best practices for one call centers and damage prevention programs. Their findings were issued in a report titled “Common Ground.” To help implement the recommendations of the Common Ground Study, RSPA is facilitating the establishment of an organization to advance underground facility damage prevention. To achieve this, four teams have been established: by-laws, finance, membership, and nominating. The purpose of this meeting is to provide a forum for these organizational teams and interested public to begin the development of the organization.

DATES: The public meeting will be held on Thursday, February 17, 2000, from 9:00 a.m. to 4:30 p.m. This meeting is open to the public.

ADDRESSES: The public meeting will be held at the Sheraton International Hotel at BWI, 7032 Elm Road BWI Airport, MD. For Reservations, call 410-859-3300. A block of rooms is being held until February 7, 2000, under “DOT Damage Prevention Meeting.”

FOR FURTHER INFORMATION CONTACT: Eben M. Wyman, (202) 366-0918, or by e-mail at eben.wyman@rspa.dot.gov, regarding the subject matter of this notice.

INFORMATION ON SERVICES FOR INDIVIDUALS WITH DISABILITIES: For information on facilities or services for individuals with disabilities or to request special assistance at the meetings, contact Eben Wyman at the address or phone number listed under For Further information Contact as soon as possible.

SUPPLEMENTARY INFORMATION: The Transportation Equity Act for the 21st Century (TEA-21) authorized a comprehensive study of damage prevention and one call center practices. In response to TEA-21, RSPA initiated the Common Ground study, which provided industry and government stakeholders the opportunity to work cooperatively to address the many issues of underground damage prevention. This study team produced an unprecedented collection of best practices in one call and damage prevention programs. The final Common Ground Study was presented to the Secretary of Transportation at a public meeting held on June 30, 1999.

On October 28, 1999, RSPA held a public meeting in Baltimore, MD, to plan for the establishment of an organization to advance underground facility damage prevention building on the spirit of cooperation developed by Common Ground. RSPA collected comments regarding elements of a mission statement, goals, functions, and organizational structure needed for an effective organization. Guiding principles were proposed, and interested individuals offered to participate on teams to facilitate the planning of the organization.

As a result of the October 28th meeting, the following organizational teams were formed:

(1) A By-laws Team to: Develop charter, mission statement and goals for the organization; define the scope and boundaries of the organization; establish organizational structure; and identify organizational functions, including public education possible data analyses and serving as a clearing house for research and development.

(2) A Finance Team to: develop a business plan, including costs of operations, sources of revenue, mechanisms for funding, contributory levels for different participants; processes for receiving income and accounting; identification of major financial contributors, charter members, donors, staff and other resources needed to support the organization.

(3) A Membership Team to: determine protocol and criteria for nominating and selecting members; determine appropriate types of representation to serve in the organization; and establish membership recruitment procedures and policies.

(4) A Nominating Team may be formed to identify representatives for the executive board. This group would be formed once the organization's by-laws have been established.

An executive team, known as the Evolution Team, oversees the four organizational teams. These teams have initiated their work via conference calls, and will meet for the first time at the February 17th meeting, which is open to the public.

The February 17th public meeting will consist of a plenary session with all team representatives as well as other interested parties, followed by breakout sessions to provide each team the opportunity to meet and begin their work. The organizational teams will report-out to all meeting attendees at the end of the day, time permitting.

RSPA welcomes all interested parties to attend and participate in this public meeting to continue the development of this organization to promote and encourage underground facility damage prevention.

Issued in Washington, DC on February 3, 2000.
Richard B. Felder,
Associate Administrator for Pipeline Safety.

[FR Doc. 00-2924 Filed 2-8-00; 8:45 am]

BILLING CODE 4910-60-P